DEPARTMENT OF THE INTERIOR

Bureau of Land Management

[NM-030-5874-EU-038G]

Notice of Realty Action; Proposed Sale of Public Land, New Mexico

AGENCY: Bureau of Land Management (BLM), Interior.

ACTION: Notice of Realty Action.

SUMMARY: A parcel of public land in Grant County, New Mexico, is being considered for sale under the provisions of the Federal Land Policy Management Act of 1976 (FLPMA), at no less than the appraised fair market value.

DATES: In order to ensure consideration in the environmental analysis of the proposed sale, comments must be received by December 18, 2008.

ADDRESSES: Written comments concerning this Notice should be addressed to: District Manager, BLM Las Cruces District Office, 1800 Marquess Street, Las Cruces, New Mexico 88005.

FOR FURTHER INFORMATION CONTACT: Lori Allen, Realty Specialist, at the above address or telephone (575) 525-4454.

SUPPLEMENTARY INFORMATION: The following described public land in Grant County, New Mexico is being considered for sale under the authority of section 203 of the FLPMA of 1976, (90 Stat. 2750, 43 U.S.C. 1713):

New Mexico Principal Meridian

T. 18 S., R. 11 W.,

Sec. 7.

T. 18 S., R. 12 W.,

Secs. 1, 2, 3, 8, and 12.

The exact acreage and legal descriptions will be determined by a Cadastral Survey.

The 1993 Mimbres Resource Management Plan identifies these parcels of public land as suitable for disposal. Conveyance of the identified public land will be subject to valid existing rights and encumbrances of record, including but not limited to, rights-of-way for roads and public utilities. Conveyance of any mineral interests pursuant to section 209 of FLPMA will be analyzed during processing of the proposed sale.

On November 3, 2008, the above-described land will be segregated from appropriation under the public land laws, including the mining laws and mineral leasing laws, except the sale provisions of the FLPMA. Until completion of the sale, the BLM will no longer accept land use applications affecting the identified public land, with the exception of applications for the amendment of previously filed right-of-way applications or existing authorizations to increase the term of the grants in accordance with 43 CFR 2807.15 and 2886.15. The segregative effect will terminate upon issuance of a patent, publication in the Federal Register of a termination of the segregation, or November 3, 2010, unless extended by the BLM State Director in accordance with 43 CFR 2711.1-2(d) prior to the termination date.

Public Comments

For a period until December 18, 2008, interested parties and the general public may submit in writing any comments concerning the land being considered for sale, including notification of any encumbrances or other claims relating to the identified land, to the District Manager, BLM Las Cruces District Office, at the above address. In order to ensure consideration in the environmental analysis of the proposed sale, comments must be in writing and postmarked or delivered within 45 days of the initial date of publication of this Notice. Comments transmitted via e-mail will not be accepted. Comments, including names and street addresses of respondents, will be available for public review at the BLM Las Cruces District Office during regular business hours, except holidays.

Individual respondents may request confidentiality. Before including your address, phone number, e-mail address, or other personal identifying information in your comment, be advised that your entire comment—including your personal identifying information—may be made publicly available at any time. While you can ask us in your comment to withhold from public review your personal identifying information, we cannot guarantee that we will be able to do so. If you wish to have your name or address withheld from public disclosure under the Freedom of Information Act, you must state this prominently at the beginning of your comments. Any determination by the BLM to release or withhold the names or addresses of those who comment will be made on a case-by-case basis.

Such requests will be honored to the extent allowed by law. The BLM will make available for public review, in their entirety, all comments submitted by businesses or organizations, including comments by individuals in their capacity as an official or representative of a business or organization.

(Authority: 43 CFR 2711.1-2)

Bill Childress,
District Manager, Las Cruces.

[FR Doc. E8-26129 Filed 10-31-08; 8:45 am]

BILLING CODE 4310-VC-P